ENVIRONMENTAL PROTECTION AGENCY

[FRL-7576-9]

Science Advisory Board Staff Office; Change to an Earlier Meeting Notice: Advisory Council on Clean Air Compliance Analysis; Notification of Postponement of a Public Meeting and Public Teleconference for the Air Quality Modeling Subcommittee and Change in Date and Time for the Health Effects Subcommittee

AGENCY: Environmental Protection Agency (EPA).

ACTION: Notice; correction.

SUMMARY: The Environmental Protection Agency, Science Advisory Board (SAB) Staff Office, published a document in the Federal Register (October 7, 2003, 68 FR 57890-57891) announcing a public meeting for the Council's Air Quality Modeling Subcommittee (AQMS) and several public teleconferences, including public teleconferences for the Council's Health Effects Subcommittee (HES) and the AQMS. The Staff Office is now announcing that the AQMS meeting and teleconference are postponed to a date and time to be identified and is also announcing a change in the date and time of the HES teleconference.

DATES: October 30, 2003. A public teleconference for the Health Effects Subcommittee (HES) will be held from 12 p.m. to 2 p.m. (Eastern Time).

FOR FURTHER INFORMATION CONTACT: Members of the public who wish to obtain the call-in number and access code to participate in the teleconference meeting may contact Ms. Sandra Friedman, EPA Science Advisory Board Staff Office, at telephone/voice mail: (202) 564-2526; or via e-mail at: friedman.sandra@epa.gov, or Ms. Delores Darden, EPA Science Advisory Board Staff Office at telephone/voice mail: (202) 564-2282; or via e-mail at darden.delores@epa.gov. Any member of the public wishing further information regarding the HES may contact Dr. Angela Nugent, Designated Federal Officer (DFO), U.S. EPA Science Advisory Board (1400A), 1200 Pennsylvania Avenue, NW., Washington, DC 20460; by telephone/voice mail at (202) 564-4562; or by e-mail at nugent.angela@epa.gov.

Dated: October 15, 2003.
Vanessa T. Vu,
Director, Science Advisory Board Staff Office.

[FR Doc. 03-26538 Filed 10-20-03; 8:45 am]

BILLING CODE 6560-50-P